NUCLEAR REGULATORY COMMISSION

Application for a License To Import Radioactive Waste

Pursuant to 10 CFR 110.72(j) “Public notice of receipt of an application”, please be advised that the Nuclear Regulatory Commission has received an application to amend import license IW008 as set forth below. Copies of the amendment application are available electronically through ADAMS and can be accessed through the Public Electronic Reading Room (PERR) link <http://www.nrc.gov/NRC/ADAMS/index.html> at the NRC Homepage.

A request for a hearing or petition for leave to intervene should be filed within 30 days after publication of this notice in the Federal Register, if possible. Any request for hearing or petition for leave to intervene shall be served by the requestor or petitioner upon the applicant, the Office of the General Counsel, U.S. Nuclear Regulatory Commission, Washington DC 20555; the Secretary, U.S. Nuclear Regulatory Commission, Washington, DC 20555; and the Executive Secretary, U.S. Department of State, Washington, DC 20520.

The information concerning the amendment application follows.

NRC Import License Amendment Application
Name of applicant; Date of application; Date received; Application No. | Description of material: Material type | Description of material: Total qty | Description of material: End use | Country of origin
Starmet CMI; September 28, 2000; October 4, 2000; IW008/01 | Depleted uranium swart/turnings; DU solid cylindrical pieces and | Increase from 80,000 kgs to 250,000 kgs DU | DU will be recycled | United Kingdom.
| Contaminated mineral oil | Increase from 45,000 liters to 240,000 liters mineral oil | Oil will be processed and reused | United Kingdom.

Dated this 25th day of October 2000 at Rockville, Maryland.
For the Nuclear Regulatory Commission,
Ronald D. Hauber,
Deputy Director, Office of International Programs.

[FR Doc. 00-28033 Filed 10-31-00; 8:45 am]

BILLING CODE 7590-01-P